DEPARTMENT OF DEFENSE

Department of the Air Force

Notice of Intent To Prepare an Environmental Impact Statement for Basing F-35a Operational Aircraft

AGENCY: United States Air Force, Air Combat Command and Air National Guard, DOD.

ACTION: Revised notice of intent.

SUMMARY: The United States Air Force published a Notice of Intent to prepare an EIS in the Federal Register (Vol. 74, No. 249, page 69080) on Dec. 30, 2009. Due to scheduling conflicts, scoping meetings originally proposed to be held January 11-14, 2010 in Idaho will now be held February 16-19, 2010. The Brunswick, Georgia meeting will be held during the week of February 8-12, 2010. Meeting locations remain the same. All other meeting dates remain the same. The original Notice of Intent identified that potential environmental impacts at Shaw AFB/McEntire JNGB would be analyzed for no action and in increments of 24 primary assigned aircraft (PAA), up to a total of 72 PAA. The revised description of the alternative is as follows, “Shaw AFB/McEntire JNGB would be analyzed for no action and in increments of 24 PAA, up to a total of 96 PAA.” This revised Notice of Intent has been prepared to notify the public of these changes.

DATES: The Air Force intends to hold scoping meetings in the following communities: January 19-22, 2010 Ogden, Layton, Callao Utah; Wendover Nevada; January 25-28, 2010 Winooski, Vermont; Littleton, New Hampshire; Watertown, New York; February 1-4, 2010 Sumter, Eastover, and Kingstree, South Carolina; and Augusta, Georgia; February 8-12, 2010 Brunswick, Georgia; Jacksonville, Avon Park, Lake Wales and Palatka Florida; February 16-19, 2010 Grand View, Twin Falls, Boise, and Mt. Home, Idaho. The scheduled dates, times, locations and addresses for the meetings will be published in local media a minimum of 15 days prior to the scoping meetings. All meetings will be held from 6 p.m. to 8 p.m.

Comments will be accepted at any time during the environmental impact analysis process. However, to ensure the Air Force has sufficient time to consider public input in the preparation of the Draft EIS, comments should be submitted to the address below by March 1, 2010.

FOR FURTHER INFORMATION CONTACT: Ms. Sheryl Parker, HQ ACC/A7PS, 129 Andrews Street Suite 337, Langley AFB, VA 23665-2769, telephone 757/764-9334.

Bao-Anh Trinh,
Air Force Federal Register Liaison Officer.

[FR Doc. 2010-1163 Filed 1-21-10; 8:45 am]

BILLING CODE 5001-05-P